SMALL BUSINESS ADMINISTRATION

[Declaration of Disaster #3270]

State of Texas

Brown County and the contiguous counties of Callahan, Coleman, Comanche, Eastland, McCulloch, Mills, and San Saba in the State of Texas constitute a disaster area as a result of damages caused by severe thunderstorms and flooding that occurred on June 15, 2000. Applications for loans for physical damage as a result of this disaster may be filed until the close of business on August 28, 2000 and for economic injury until the close of business on March 29, 2001 at the address listed below or other locally announced locations: U.S. Small Business Administration, Disaster Area 3 Office, 4400 Amon Carter Blvd., Suite 102, Ft. Worth, TX 76155.

The interest rates are:

| Percent
For Physical Damage:
HOMEOWNERS WITH CREDIT AVAILABLE ELSEWHERE | 7.375
HOMEOWNERS WITHOUT CREDIT AVAILABLE ELSEWHERE | 3.687
BUSINESSES WITH CREDIT AVAILABLE ELSEWHERE | 8.000
BUSINESSES AND NON-PROFIT ORGANIZATIONS WITHOUT CREDIT AVAILABLE ELSEWHERE | 4.000
OTHERS (INCLUDING NON-PROFIT ORGANIZATIONS) WITH CREDIT AVAILABLE ELSEWHERE | 6.750
For Economic Injury:
BUSINESSES AND SMALL AGRICULTURAL COOPERATIVES WITHOUT CREDIT AVAILABLE ELSEWHERE | 4.000%

The numbers assigned to this disaster are 327011 for physical damage and 9H6100 for economic injury.

(Catalog of Federal Domestic Assistance Program Nos. 59002 and 59008)

Dated: June 29, 2000.
Aida Alvarez,
Administrator.

[FR Doc. 00-17559 Filed 7-11-00; 8:45 am]

BILLING CODE 8025-01-P